DEPARTMENT OF HEALTH AND HUMAN SERVICES

National Institutes of Health

Center for Scientific Review; Amended Notice of Meeting

Notice is hereby given of a change in the meeting of the Center for Scientific Review Special Emphasis Panel, October 8, 2004, 8:30 am to October 8, 2004, 2 pm, Embassy Suites at the Chevy Chase Pavilion, 4300 Military Road, NW., Washington, DC 20015 which was published in the Federal Register on September 24, 2004, 69 FR 57334-57335.

The meeting will be held November 8, 2004. The time and location remain the same. The meeting is closed to the public.

Dated: September 30, 2004.
LaVerne Y. Stringfield,
Director, Office of Federal Advisory Committee Policy.

[FR Doc. 04-22665 Filed 10-7-04; 8:45 am]

BILLING CODE 4140-01-M